DEPARTMENT OF ENERGY

Federal Energy Regulatory Commission

[Docket No. RP01-350-002]

Colorado Interstate Gas Company; Notice of Motion To Place Tariff Sheets Into Effect

October 2, 2001.

Take notice that on September 27, 2001, Colorado Interstate Gas Company (CIG) tendered for filing as part of its FERC Gas Tariff, First Revised Volume No. 1, the tariff sheets listed in Appendices A, B and C attached to the filing to become effective October 1, 2001.

CIG states that on March 30, 2001 at Docket No. RP01-350-000, it filed with the Commission a notice of change in rates for natural gas transportation service. By order issued April 25, 2001, the Commission accepted the tariff sheets, suspended their effectiveness for five months to become effective October 1, 2001 subject to refund and conditions, and established hearing procedures and a technical conference.

Any person desiring to be heard or to protest said filing should file a motion to intervene or a protest with the Federal Energy Regulatory Commission, 888 First Street, NE., Washington, DC 20426, in accordance with Sections 385.214 or 385.211 of the Commission's Rules and Regulations. All such motions or protests must be filed on or before October 9, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25209 Filed 10-5-01; 8:45 am]

BILLING CODE 6717-01-P